DEPARTMENT OF COMMERCE

National Oceanic and Atmospheric Administration

50 CFR Part 665

[Docket No. 141009847-5604-01]

RIN 0648-XD558

Pacific Island Fisheries; 2015 Annual Catch Limits and Accountability Measures

AGENCY: National Marine Fisheries Service (NMFS), National Oceanic and Atmospheric Administration (NOAA), Department of Commerce.

ACTION: Proposed specifications; request for comments.

SUMMARY: NMFS proposes annual catch limits (ACLs) for Pacific Island bottomfish, crustacean, precious coral, and coral reef ecosystem fisheries, and accountability measures (AMs) to correct or mitigate any overages of catch limits. The proposed ACLs and AMs would be effective in fishing year 2015. The fishing year for each fishery begins on January 1 and ends on December 31, except for precious coral fisheries, which begins July 1 and ends on June 30 the following year. The proposed catch limits and accountability measures support the long-term sustainability of fishery resources of the U.S. Pacific Islands.

DATES: NMFS must receive comments by August 5, 2015.

ADDRESSES: You may submit comments on this document, identified by NOAA-NMFS-2014-0130, by either of the following methods:

• Electronic Submission: Submit all electronic public comments via the Federal e-Rulemaking Portal. Go to http://www.regulations.gov/#!docketDetail;D=NOAA-NMFS-2014-0130, click the “Comment Now!” icon, complete the required fields, and enter or attach your comments.

• Mail: Send written comments to Michael D. Tosatto, Regional Administrator, NMFS Pacific Islands Region (PIR), 1845 Wasp Blvd., Bldg. 176, Honolulu, HI 96818.

Instructions: NMFS may not consider comments sent by any other method, to any other address or individual, or received after the end of the comment period. All comments received are a part of the public record and will generally be posted for public viewing on www.regulations.gov without change. All personal identifying information (e.g., name, address, etc.), confidential business information, or otherwise sensitive information submitted voluntarily by the sender will be publicly accessible.

NMFS prepared environmental analyses that describe the potential impacts on the human environment that would result from the proposed annual catch limits and accountability measures. NMFS provided additional background information in the 2014 proposed and final specifications (78 FR 77089, December 20, 2013; 79 FR 4276, January 27, 2014). Copies of the environmental analyses and other documents are available at www.regulations.gov.

FOR FURTHER INFORMATION CONTACT: Jarad Makaiau, NMFS PIRO Sustainable Fisheries, 808-725-5176.

SUPPLEMENTARY INFORMATION: Fisheries in the U.S. Exclusive Economic Zone (EEZ, or Federal waters) around the U.S. Pacific Islands are managed under archipelagic fishery ecosystem plans (FEP) for American Samoa, Hawaii, the Pacific Remote Islands, and the Mariana Archipelago (covering Guam and the Commonwealth of the Northern Mariana Islands (CNMI)). A fifth FEP covers pelagic fisheries. The Western Pacific Fishery Management Council (Council) developed the FEPs, and NMFS implemented them under the authority of the Magnuson-Stevens Fishery Conservation and Management Act (Magnuson-Stevens Act).

Each FEP contains a process for the Council and NMFS to specify ACLs and AMs; that process is codified at Title 50 Code of Federal Regulations Section 665.4 (50 CFR 665.4). The regulations require NMFS to specify, every fishing year, an ACL for each stock and stock complex of management unit species (MUS) included in an FEP, as recommended by the Council and considering the best available scientific, commercial, and other information about the fishery. If a fishery exceeds an ACL, the regulations require the Council to take action, which may include reducing the ACL for the subsequent fishing year by the amount of the overage, or other appropriate action.

Annual Catch Limits

NMFS proposes to specify ACLs for bottomfish, crustacean, precious coral, and coral reef ecosystem fishery MUS in American Samoa, Guam, the CNMI, and Hawaii. NMFS based the proposed specifications on recommendations from the Council at its 160th meeting held on June 24-27, 2014. The Council recommended 112 ACLs: 26 in American Samoa, 26 in Guam, 26 in the CNMI, and 34 in Hawaii. The Council recommended that NMFS specify multi-year ACL and accountability measures effective in fishing years 2015-2018. NMFS proposes to implement the specifications for fishing year 2015, 2016, 2017, and 2018 separately prior to each fishing year (January 1 through December 31 each year, except for precious coral fisheries, which is July 1 through June 30). The proposed ACLs are identical to those that NMFS specified for the 2014 fishing year for all crustaceans (except for spiny lobster), bottomfish (except Hawaii non-Deep 7 bottomfish), and precious corals. For spiny lobster, Hawaii non-Deep 7 bottomfish, and coral reef ecosystem species, the ACLs are based on new estimates of maximum sustainable yield (MSY) and would be specified at five percent below ABC (95 percent of ABC). At the 161st meeting held October 20-23, 2014, the Council maintained its recommendations from the 160th meeting.

NMFS is not proposing ACLs for MUS that are currently subject to Federal fishing moratoria or prohibitions. These MUS include all species of gold coral (78 FR 32181, May 29, 2013), the three Hawaii seamount groundfish (pelagic armorhead, alfonsin, and raftfish, 75 FR 69015, November 10, 2010), and deepwater precious corals at the Westpac Bed Refugia (75 FR 2198, January 14, 2010). The current prohibitions on fishing for these MUS serve as the functional equivalent of an ACL of zero.

Additionally, NMFS is not proposing ACLs for bottomfish, crustacean, precious coral, or coral reef ecosystem MUS identified in the Pacific Remote Islands Area (PRIA) FEP. This is because fishing is prohibited in the EEZ within 12 nm of emergent land, unless authorized by the U.S. Fish and Wildlife Service (USFWS) (78 FR 32996, June 3, 2013). To date, NMFS has not received fishery data for any such approvals. In addition, there is no suitable habitat for these stocks beyond the 12-nm no-fishing zone, except at Kingman Reef, where fishing for these resources does not occur. Therefore, the current prohibitions on fishing serve as the functional equivalent of an ACL of zero. However, NMFS will continue to monitor authorized fishing within the Monument in consultation with the U.S. Fish and Wildlife Service, and may develop additional fishing requirements, including Monument-specific catch limits for species that may require them.

NMFS is also not proposing ACLs for pelagic MUS at this time, because NMFS previously determined that pelagic species are subject to international fishery agreements or have a life cycle of approximately one year and, therefore, are statutorily excepted from the ACL requirements.

Proposed Annual Catch Limit Specifications

The following four tables list the proposed ACL specifications for 2015.

Table 1—American Samoa
Fishery | Management unit species | Proposed ACL specification (lb)
Bottomfish | Bottomfish multi-species stock complex | 101,000
Crustacean | Deepwater shrimp | 80,000
| Spiny lobster | 4,845
| Slipper lobster | 30
| Kona crab | 3,200
Precious Coral | Black coral | 790
| Precious corals in the American Samoa Exploratory Area | 2,205
Coral Reef Ecosystem | Selar crumenophthalmus—atule, bigeye scad | 37,400
| Acanthuridae—surgeonfish | 129,400
| Carangidae—jacks | 19,900
| Carcharhinidae—reef sharks | 1,615
| Crustaceans—crabs | 4,300
| Holocentridae—squirrelfish | 15,100
| Labridae—wrasses | 16,200
| Lethrinidae—emperors | 19,600
| Lutjanidae—snappers | 63,100
| Kyphosidae—rudderfishes | 2,000
| Mollusks—turbo snail; octopus; giant clams | 18,400
| Mugilidae—mullets | 4,600
| Mullidae—goatfishes | 11,900
| Scaridae—parrotfish | 272,000
| Serranidae—groupers | 25,300
| Siganidae—rabbitfishes | 200
| Bolbometopon muricatum—bumphead parrotfish | 235
| Cheilinus undulatus—Humphead (Napoleon) wrasse | 1,743
| All other CREMUS combined | 18,400

Table 2—Mariana Archipelago—Guam
Fishery | Management unit species | Proposed ACL specification (lb)
Bottomfish | Bottomfish multi-species stock complex | 66,800
Crustaceans | Deepwater shrimp | 48,488
| Spiny lobster | 3,135
| Slipper lobster | 20
| Kona crab | 1,900
Precious Coral | Black coral | 700
| Precious corals in the Guam Exploratory Area | 2,205
Coral Reef Ecosystem | Selar crumenophthalmus—atulai, bigeye scad | 50,200
| Acanthuridae—surgeonfish | 97,600
| Carangidae—jacks | 29,300
| Carcharhinidae—reef sharks | 1,900
| Crustaceans—crabs | 7,300
| Holocentridae—squirrelfish | 11,400
| Kyphosidae—chubs/rudderfish | 9,600
| Labridae—wrasses | 25,200
| Lethrinidae—emperors | 53,000
| Lutjanidae—snappers | 18,000
| Mollusks—octopus | 23,800
| Mugilidae—mullets | 17,900
| Mullidae—goatfish | 15,300
| Scaridae—parrotfish | 71,600
| Serranidae—groupers | 22,500
| Siganidae—rabbitfish | 18,600
| Bolbometopon muricatum—bumphead parrotfish | 797 (CNMI and Guam combined)
| Cheilinus undulatus—humphead (Napoleon) wrasse | 1,960
| All other CREMUS combined | 185,000

Table 3—Mariana Archipelago—CNMI
Fishery | Management unit species | Proposed ACL specification (lb)
Bottomfish | Bottomfish multi-species stock complex | 228,000
Crustacean | Deepwater shrimp | 275,570
| Spiny lobster | 7,410
| Slipper lobster | 60
| Kona crab | 6,300
Precious Coral | Black coral | 2,100
| Precious corals in the CNMI Exploratory Area | 2,205
Coral Reef Ecosystem | Selar crumenophthalmus—Atulai, bigeye scad | 77,400
| Acanthuridae—surgeonfish | 302,600
| Carangidae—jacks | 44,900
| Carcharhinidae—reef sharks | 5,600
| Crustaceans—crabs | 4,400
| Holocentridae—squirrelfishes | 66,100
| Kyphosidae—rudderfishes | 22,700
| Labridae—wrasses | 55,100
| Lethrinidae—emperors | 53,700
| Lutjanidae—snappers | 190,400
| Mollusks—turbo snail; octopus; giant clams | 9,800
| Mugilidae—mullets | 4,500
| Mullidae—goatfish | 28,400
| Scaridae—parrotfish | 144,000
| Serranidae—groupers | 86,900
| Siganidae—rabbitfish | 10,200
| Bolbometopon muricatum—Bumphead parrotfish | 797 (CNMI and Guam combined)
| Cheilinus undulatus—Humphead (Napoleon) wrasse | 2,009
| All other CREMUS combined | 7,300

Table 4—Hawaii
Fishery | Management unit species | Proposed ACL specification (lb)
Bottomfish | Non-Deep 7 bottomfish | 178,000
Crustacean | Deepwater shrimp | 250,773
| Spiny lobster | 15,000
| Slipper lobster | 280
| Kona crab | 27,600
Precious Coral | Auau Channel black coral | 5,512
| Makapuu Bed—Pink coral | 2,205
| Makapuu Bed—Bamboo coral | 551
| 180 Fathom Bank—Pink coral | 489
| 180 Fathom Bank—Bamboo coral | 123
| Brooks Bank—Pink coral | 979
| Brooks Bank—Bamboo coral | 245
| Kaena Point Bed—Pink coral | 148
| Kaena Point Bed—Bamboo coral | 37
| Keahole Bed—Pink coral | 148
| Keahole Bed—Bamboo coral | 37
| Precious corals in the Hawaii Exploratory Area | 2,205
Coral Reef Ecosystem | Selar crumenophthalmus—akule, bigeye scad | 988,000
| Decapterus macarellus—opelu, mackerel scad | 438,000
| Acanthuridae—surgeonfishes | 342,000
| Carangidae—jacks | 161,200
| Carcharhinidae—reef sharks | 9,310
| Crustaceans—crabs | 33,500
| Holocentridae—squirrelfishes | 148,000
| Kyphosidae—rudderfishes | 105,000
| Labridae—wrasses | 205,000
| Lethrinidae—emperors | 35,500
| Lutjanidae—snappers | 330,300
| Mollusks—octopus | 35,700
| Mugilidae—mullets | 19,200
| Mullidae—goatfishes | 165,000
| Scaridae—parrotfishes | 239,000
| Serranidae—groupers | 128,400
| All other CREMUS combined | 485,000

Accountability Measures

Each year, NMFS and local resource management agencies in American Samoa, Guam, the CNMI, and Hawaii collect information about MUS catches and apply them toward the appropriate ACLs. Pursuant to 50 CFR 665.4, when the available information indicates that a fishery is projected to reach an ACL for a stock or stock complex, NMFS must notify permit holders that fishing for that stock or stock complex will be restricted in Federal waters on a specified date. The restriction serves as the AM to prevent an ACL from being exceeded, and may include, closing the fishery, closing specific areas, changing to bag limits, or restricting effort.

However, local resource management agencies do not have the personnel or resources to process catch data in near-real time, so fisheries statistics are generally not available to NMFS until at least six months after agencies collect and analyze the data. Although the State of Hawaii has the capability to monitor and track the catch of seven preferentially-targeted bottomfish species in near-real time, (78 FR 59626, September 27, 2013), these capabilities do not exist for other Hawaii bottomfish, crustacean, precious coral, and coral reef ecosystem fisheries, or for fisheries in American Samoa, Guam, and the CNMI.

Additionally, Federal logbook and reporting from fisheries in Federal waters is not sufficient to accurately monitor and track catches towards the proposed ACL specifications. This is because most fishing for bottomfish, crustacean, precious coral, and coral reef ecosystem MUS occurs in state waters, generally 0-3 nm from shore. For these reasons, NMFS proposes to specify the Council's recommended AM, which is to apply a moving three-year average catch to evaluate fishery performance against the proposed ACLs. Specifically, NMFS and the Council would use the average catch of fishing year 2013, 2014, and 2015 to evaluate fishery performance against a particular 2015 ACL. This process would be repeated in future fishing years. At the end of each fishing year, the Council would review catches relative to each ACL. If NMFS and the Council determine the three-year average catch for the fishery exceeds the specified ACL, NMFS would reduce the ACL for that fishery by the amount of the overage in the subsequent year.

NMFS will consider public comments on the proposed ACLs and AMs and will announce the final specifications in the Federal Register. NMFS must receive any comments by the date provided in the DATES heading, not postmarked or otherwise transmitted by that date. Regardless of the final ACL specifications and AMs, all other management measures will continue to apply in the fisheries.

Classification

Pursuant to section 304(b)(1)(A) of the Magnuson-Stevens Act, the NMFS Assistant Administrator for Fisheries has determined that these proposed specifications are consistent with the applicable FEPs, other provisions of the Magnuson-Stevens Act, and other applicable laws, subject to further consideration after public comment.

Certification of Finding of No Significant Impact on Substantial Number of Small Entities

The Chief Counsel for Regulation of the Department of Commerce certified to the Chief Counsel for Advocacy of the Small Business Administration that these proposed specifications, if adopted, would not have a significant economic impact on a substantial number of small entities. A description of the proposed action, why it is being considered, and the legal basis for it are contained in the preamble to these proposed specifications.

The proposed action would specify annual catch limits (ACL) and accountability measures (AM) for Pacific Island bottomfish, crustacean, precious coral, and coral reef ecosystem fisheries for 2015. The 2015 ACLs and AMs for all crustaceans (except for spiny lobster), bottomfish (except Hawaii non-Deep 7 bottomfish), and precious corals are identical to those NMFS specified for the 2014 fishing year. For spiny lobster, Hawaii non-Deep 7 bottomfish, and coral reef ecosystem species, the ACL is based on new estimates of maximum sustainable yield (MSY) and would be specified at 95 percent of acceptable biological catch (ABC).

The National Marine Fisheries Service (NMFS) based the proposed specifications on recommendations from the Western Pacific Fishery Management Council (Council) at the Council's 160th meeting held from June 24-27, 2014, and reaffirmed again at the 161st meeting held from October 20-23, 2014. For this action, the Council recommended 112 ACLs: 26 in American Samoa, 26 in Guam, 26 in CNMI, and 34 in Hawaii. NMFS would specify the ACLs for the 2015-2018 fishing years, which begin on January 1 and end on December 31, except for precious coral fisheries, which begin July 1 and end on June 30 the following year.

The vessels impacted by this action are federally permitted to fish under the Fishery Ecosystem Plans for American Samoa, the Marianas Archipelago (Guam and the CNMI) and Hawaii. The numbers of vessels permitted under these Fishery Ecosystem Plans affected by this action are as follows: American Samoa (0), Marianas Archipelago (3), and Hawaii (11). Based on available information, NMFS has determined that all impacted entities are small entities under the SBA definition of a small entity, i.e., they are engaged in the business of fish harvesting, are independently owned or operated, are not dominant in their field of operation, and have annual gross receipts not in excess of $20.5 million if fishing for finfish (NAICS code 114111), $5.5 million if fishing for shellfish (NAICS code: 114112), or $7.5 million if fishing for other marine life such as precious corals (NAICS code: 114119). Therefore, there would be no disproportionate economic impacts between large and small entities. Furthermore, there would be no disproportionate economic impacts among the universe of vessels based on gear, home port, or vessel length.

Even though this proposed action would apply to a substantial number of vessels, the implementation of this action should not result in significant adverse economic impact to individual vessels. For active fisheries, the ACLs are the same as, or greater than, the current annual yields. The Council and NMFS are not considering in-season closures in any of the fisheries to which these ACLs apply because fishery management agencies are not able to track catch relative to the ACLs during the fishing year. As a result, fishermen would be able to fish throughout the entire year. In addition, the ACLs, as proposed, would not change the gear types, areas fished, effort, or participation of the fishery during the 2015 fishing year. A post-season review of the catch data would be required to determine whether any fishery exceeded its ACL by comparing the ACL to the most recent 3-year average catch for which data is available. If an ACL is exceeded, the Council and NMFS would take action in future fishing years to correct the operational issue that caused the ACL overage. NMFS and the Council would evaluate the environmental and social and economic impacts of future actions, such as changes to future ACLs or AMs, after the required data are available. Specifically, if NMFS and the Council determine that the three-year average catch for a fishery exceeds the specified ACL, NMFS would reduce the ACL for that fishery by the amount of the overage in the subsequent year.

The proposed action does not duplicate, overlap, or conflict with other Federal rules and is not expected to have significant impact on small entities (as discussed above), organizations, or government jurisdictions. The proposed action also will not place a substantial number of small entities, or any segment of small entities, at a significant competitive disadvantage to large entities. As such, an initial regulatory flexibility analysis is not required and none has been prepared.

This action has been determined to be exempt from review under E.O. 12866.

Authority: 16 U.S.C. 1801 et seq.

Dated: July 15, 2015.
Samuel D. Rauch III,
Deputy Assistant Administrator for Regulatory Programs, National Marine Fisheries Service.

[FR Doc. 2015-17778 Filed 7-20-15; 8:45 am]

BILLING CODE 3510-22-P